SMALL BUSINESS ADMINISTRATION

[Declaration of Disaster #3364]

State of New York; (Amendment #2)

In accordance with a notice received from the Federal Emergency Management Agency, dated November 1, 2001, the above numbered declaration is hereby amended to extend the deadline for filing applications for physical damages as a result of this disaster to January 10, 2002.

All other information remains the same, i.e., the deadline for filing applications for economic injury is June 11, 2002.

(Catalog of Federal Domestic Assistance Program Nos. 59002 and 59008.)
Dated: November 6, 2001.
James E. Rivera,
Acting Associate Administrator for Disaster Assistance.

[FR Doc. 01-28373 Filed 11-9-01; 8:45 am]

BILLING CODE 8025-01-P